DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security (BIS).

Title: BIS Program Evaluation.

OMB Control Number: 0694-0125.

Form Number(s): N/A.

Type of Request: Regular submission.

Burden Hours: 500.

Number of Respondents: 3,000.

Average Hours per Response: 10 minutes.

Needs and Uses: This survey capability is needed by BIS seminar instructors for seminar programs conducted throughout the year. The participants will be asked to evaluate seminar content and to provide input for future programs. Their responses will provide useful and practical information that BIS can use to determine whether or not it is providing a quality program and make recommended improvements.

Affected Public: Business or other for-profit organizations; not-for-profit institutions.

Frequency: On occasion.

Respondent's Obligation: Voluntary.

OMB Desk Officer: Jasmeet Seehra, (202) 395-3123.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jasmeet Seehra, OMB Desk Officer via the Internet at Jasmeet_K._Seehra@omb.eop.gov, or by fax to (202) 395-5167.

Dated: February 19, 2010.
Gwellnar Banks,
Management Analyst, Office of the Chief Information Officer.

[FR Doc. 2010-3682 Filed 2-23-10; 8:45 am]

BILLING CODE 3510-33-P